ENVIRONMENTAL PROTECTION AGENCY

[EPA-R09-OAR-2008-0325; FRL-8562-4]

Adequacy Status of Motor Vehicle Emissions Budgets in Submitted Coachella Valley 8-hour Ozone Early Progress Plan for Transportation Conformity Purposes; California

AGENCY: Environmental Protection Agency (EPA).

ACTION: Notice of Adequacy.

SUMMARY: In this notice, EPA is notifying the public that the Agency has found that the motor vehicle emissions budgets for 8-hour ozone in the Coachella Valley 8-hour Ozone Early Progress Plan are adequate for transportation conformity purposes. The Coachella Valley 8-hour Ozone Early Progress Plan was submitted to EPA on March 24, 2008 by the California Air Resources Board as a revision to the California State Implementation Plan (SIP). As a result of our adequacy findings, the Southern California Association of Governments and the U.S. Department of Transportation must use these budgets in future conformity analyses once the finding becomes effective.

DATES: This finding is effective May 22, 2008.

FOR FURTHER INFORMATION CONTACT: Rebecca Rosen, U.S. EPA, Region IX, Air Division AIR-2, 75 Hawthorne Street, San Francisco, CA 94105-3901; (415) 947-4154 or rosen.rebecca@epa.gov.

SUPPLEMENTARY INFORMATION: Throughout this document, whenever “we,” “us,” or “our” is used, we mean EPA.

Today's notice is simply an announcement of a finding that we have already made. EPA Region IX sent a letter to the California Air Resources Board on April 16, 2008 stating that the motor vehicle emissions budgets in the submitted Coachella Valley 8-hour Ozone Early Progress Plan for 2012 are adequate. The finding is available at EPA's conformity Web site: http://www.epa.gov/otag/stateresources/transconf/adequacy.htm. The adequate motor vehicle emissions budgets are provided in the following table:

Motor Vehicle Emissions Budgets
Budget year | Volatile organic compounds ¹: (tons per day) | Nitrogen oxides: (tons per day)
2012 | 7 | 26
¹ The plan uses a comparable State term, reactive organic gases (ROG).

Transportation conformity is required by Clean Air Act section 176(c). EPA's conformity rule requires that transportation plans, transportation improvement programs, and projects conform to state air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). We have described our process for determining the adequacy of submitted SIP budgets in our July 1, 2004 preamble starting at 69 FR 40038 and we used the information in these resources in making our adequacy determination. Please note that an adequacy review is separate from EPA's completeness review, and should not be used to prejudge EPA's ultimate approval action for the SIP. Even if we find a budget adequate, the SIP could later be disapproved.

Authority: 42 U.S.C. 7401 et seq.

Dated: April 16, 2008.
Laura Yoshii,
Deputy Regional Administrator, Region IX.

[FR Doc. E8-9959 Filed 5-6-08; 8:45 am]

BILLING CODE 6560-50-M